DEPARTMENT OF LABOR

Employment and Training Administration

Notice of Determinations Regarding Eligibility To Apply for Worker Adjustment Assistance and Alternative Trade Adjustment Assistance

In accordance with Section 223 of the Trade Act of 1974, as amended (19 U.S.C. 2273) the Department of Labor herein presents summaries of determinations regarding eligibility to apply for trade adjustment assistance for workers (TA-W) number and alternative trade adjustment assistance (ATAA) by (TA-W) number issued during the period of December 17, 2007 through January 4, 2008.

In order for an affirmative determination to be made for workers of a primary firm and a certification issued regarding eligibility to apply for worker adjustment assistance, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made for secondarily affected workers of a firm and a certification issued regarding eligibility to apply for worker adjustment assistance, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

In order for the Division of Trade Adjustment Assistance to issue a certification of eligibility to apply for Alternative Trade Adjustment Assistance (ATAA) for older workers, the group eligibility requirements of Section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations for Worker Adjustment Assistance

The following certifications have been issued. The date following the company name and location of each determination references the impact date for all workers of such determination.

The following certifications have been issued. The requirements of Section 222(a)(2)(A) (increased imports) of the Trade Act have been met.

TA-W-62,553; ALA Casting Company, Inc., Long Island City, NY: November 27, 2006

The following certifications have been issued. The requirements of Section 222(a)(2)(B) (shift in production) of the Trade Act have been met.

TA-W-62,462; Enhance America of Missouri, Inc., Washington, MO: November 8, 2006

TA-W-62,511; Cellular Express, Inc., d/b/a/ Boston Communications Group, Westbrook, ME: November 26, 2006

The following certifications have been issued. The requirements of Section 222(b) (supplier to a firm whose workers are certified eligible to apply for TAA) of the Trade Act have been met.

NONE

The following certifications have been issued. The requirements of Section 222(b) (downstream producer for a firm whose workers are certified eligible to apply for TAA based on increased imports from or a shift in production to Mexico or Canada) of the Trade Act have been met.

NONE

Affirmative Determinations for Worker Adjustment Assistance and Alternative Trade Adjustment Assistance

The following certifications have been issued. The date following the company name and location of each determination references the impact date for all workers of such determination.

The following certifications have been issued. The requirements of Section 222(a)(2)(A) (increased imports) and Section 246(a)(3)(A)(ii) of the Trade Act have been met.

TA-62,429; Covalence Plastics, City of Industry, CA: October 26, 2006

TA-62,489; CHF Industries, Inc., Bedding Division, Loris, SC: December 30, 2006

TA-W-62,537; Rockford Corporation, Tempe, AZ: December 5, 2006

TA-W-62,545; WM. Wright Company, West Warren, MA: January 21, 2008

TA-W-61,878; Meadwestvaco, Consumer and Office Products Div., Garden Grove, CA: July 24, 2006

TA-W-62,245; Flakeboard Company, Ltd., Duraflake Division, Albany, OR: October 1, 2006

TA-W-62,287; Franklin Plastic Products, Inc., Franklin, IN: October 9, 2006

TA-W-62,306; H. C. Holding, LLC, Wadena, MN: October 15, 2006

TA-W-62,346; McConway and Torley, LLC, A Subsidiary of Trinity Parts and Components, LLC, Kutztown, PA: October 22, 2006

TA-W-62,422; Curtain and Drapery Fashions, Lowell, NC: November 1, 2006

TA-W-62,450; Shape Global Technology, Sanford, ME: November 12, 2006

TA-W-62,470; BMI Electronics, Inc., Montgomery and Lee Staffing, Hardaway, AL: November 15, 2006

TA-W-62,481; W. R. Hosiery LLC, Fort Payne, AL: November 19, 2006

TA-W-62,502; Girard Plastics, LLC, On-Site Leased Workers From Career Concepts, Advanced, Girard, PA: November 27, 2006

TA-W-62,319; E. G. Fashion Inc., New York, NY: October 17, 2006

TA-W-62,420; Johnson Hosiery Mills, Inc., Hickory Division, Hickory, NC: November 2, 2006

TA-W-62,433; Lawrence Sewing, San Francisco, CA: November 7, 2006

The following certifications have been issued. The requirements of Section 222(a)(2)(B) (shift in production) and Section 246(a)(3)(A)(ii) of the Trade Act have been met.

TA-62,375; International Legwear Group, Athens, TN: September 15, 2007

TA-W-62,405; The Goodyear Tire and Rubber Company, North American Tire Co. On-Site Leased Workers From UGL Unico, Tyler, TX: November 2, 2006

TA-W-62,432; LEM Industries, Inc., Obetz, OH: November 7, 2006

TA-W-62,448; Integram St. Louis Seating, Intier Automotive Division, Division of Magna International, Pacific, MO: November 9, 2006

TA-W-62,454; Ballard Medical Products, A Subsidiary of Kimberly-Clark, Pocatello, ID: December 20, 2007

TA-W-62,467; USAprons, Inc., Sidney, NE: November 14, 2006

TA-W-62,514; Atlas Aero Corporation, Leased Workers of the Monroe Group, Meriden, CT: November 28, 2006

TA-W-62,543; McNeil Consumer Healthcare, Kelly Services, Kaztronics, Lab Support, Robert Half, Parsippany, NJ: December 5, 2006

TA-W-62,557; Sports Belle, Inc., Knoxville, TN: December 6, 2006

TA-W-62,574; Molex, Inc., Integrated Products Division, Maumelle, AR: December 13, 2006

TA-W-62,472; Corsair Memory, Inc., Fremont, CA: November 9, 2006

TA-W-62,107; Regal Ware, Inc., Kewaskum Manufacturing Plant, Kewaskum, WI: September 3, 2007

TA-W-62,107A; Regal Ware, Inc., Kewaskum Manufacturing Plant, West Bend, WI: September 3, 2007

TA-W-62,273; Delphi Corporation, Automotive Holdings Group Division, On-Site Leased Workers From Bartech, Dayton, OH: October 8, 2006

TA-W-62,273A; Delphi Corporation, Disc Pads Division, On-Site Leased Workers From Bartech, Dayton, OH: October 8, 2006

TA-W-62,370; Tietex International, LTD, Spartanburg, SC: February 8, 2007

TA-W-62,457; Only In USA, Inc., Los Angeles, CA: November 6, 2006

TA-W-62,494; Quadriga Art, LLC, Red Farm Studio, LLC, Pawtucket, RI: November 1, 2006

The following certifications have been issued. The requirements of Section 222(b) (supplier to a firm whose workers are certified eligible to apply for TAA) and Section 246(a)(3)(A)(ii) of the Trade Act have been met.

TA-W-62,491; Westchester Narrow Fabrics, Inc., Milton, PA: June 8, 2007

TA-W-62,534; S and Z Metalworks Limited, A Subsidiary of Metalworks Worldwide, Cleveland, OH: November 30, 2006

The following certifications have been issued. The requirements of Section 222(b) (downstream producer for a firm whose workers are certified eligible to apply for TAA based on increased imports from or a shift in production to Mexico or Canada) and Section 246(a)(3)(A)(ii) of the Trade Act have been met.

NONE

Negative Determinations for Alternative Trade Adjustment Assistance

In the following cases, it has been determined that the requirements of 246(a)(3)(A)(ii) have not been met for the reasons specified.

The Department has determined that criterion (1) of Section 246 has not been met. The firm does not have a significant number of workers 50 years of age or older.

TA-W-62,462; Enhance America of Missouri, Inc., Washington, MO

The Department has determined that criterion (2) of Section 246 has not been met. Workers at the firm possess skills that are easily transferable.

TA-W-62,553; ALA Casting Company, Inc., Long Island City, NY

The Department has determined that criterion (3) of Section 246 has not been met. Competition conditions within the workers' industry are not adverse.

TA-W-62,511; Cellular Express, Inc., d/b/a/ Boston Communications Group, Westbrook, ME

Negative Determinations for Worker Adjustment Assistance and Alternative Trade Adjustment Assistance

In the following cases, the investigation revealed that the eligibility criteria for worker adjustment assistance have not been met for the reasons specified.

Because the workers of the firm are not eligible to apply for TAA, the workers cannot be certified eligible for ATAA.

The investigation revealed that criteria (a)(2)(A)(I.A.) and (a)(2)(B)(II.A.) (employment decline) have not been met.

TA-W-62,415; Bernard Chaus, Cynthia Steffe Division, Secaucus, NJ.

The investigation revealed that criteria (a)(2)(A)(I.B.) (Sales or production, or both, did not decline) and (a)(2)(B)(II.B.) (shift in production to a foreign country) have not been met.

TA-W-62,423; KLA—Tencor Corporation, Tucson, AZ.

The investigation revealed that criteria (a)(2)(A)(I.C.) (increased imports) and (a)(2)(B)(II.B.) (shift in production to a foreign country) have not been met.

TA-W-62,276; F.L. Smithe Machine Co., Duncansville, PA.

TA-W-62,281; Auburn Investment Castings, Inc., Auburn, AL.

TA-W-62,412; Walter Drake, Inc., Holyoke, MA.

TA-W-62,455; Morgan Trailer Manufacturing Co., Morgantown Division, Morgantown, PA.

TA-W-62,498; Double D Logging, John Day, OR.

TA-W-62,336; Fabtek Corporation, Division of Blount International, Menominee, MI.

TA-W-62,535; Nevamar Company, LLC, Saturator Department, Oshkosh, WI.

The workers' firm does not produce an article as required for certification under Section 222 of the Trade Act of 1974.

TA-W-62,468; VWR International, LLC, Finance Department, Subsidiary of Varietal Distribution Holdings, LLC, Bridgeport, NJ.

TA-W-62,544; XL Specialty Insurance Company, Exton, PA.

The investigation revealed that criteria of Section 222(b)(2) has not been met. The workers' firm (or subdivision) is not a supplier to or a downstream producer for a firm whose workers were certified eligible to apply for TAA.

NONE

I hereby certify that the aforementioned determinations were issued during the period of December 17, 2007 through January 4, 2008. Copies of these determinations are available for inspection in Room C-5311, U.S. Department of Labor, 200 Constitution Avenue, NW., Washington, DC 20210 during normal business hours or will be mailed to persons who write to the above address.

Dated: January 10, 2008.
Ralph DiBattista,
Director, Division of Trade Adjustment Assistance.

[FR Doc. E8-586 Filed 1-15-08; 8:45 am]

BILLING CODE 4510-FN-P